FEDERAL COMMUNICATIONS COMMISSION

47 CFR Parts 2, 15, 68, and 73

[ET Docket Nos. 21-363 and 19-48; FCC 22-3; FR ID 75329]

Updating References to Standards Related to the Commission's Equipment Authorization Program

AGENCY: Federal Communications Commission.

ACTION: Proposed rule.

SUMMARY: In this document, the Federal Communications Commission (Commission) proposes targeted updates to its rules to incorporate new and updated standards that are integral to the testing of equipment and accreditation of laboratories that test RF devices.

DATES: Comments are due on or before April 18, 2022. Reply comments are due on or before May 16, 2022. Written comments on the Paperwork Reduction Act proposed information collection requirements must be submitted by the public, Office of Management and Budget (OMB), and other interested parties on or before May 16, 2022.

ADDRESSES: You may submit comments, identified by ET Docket No. 21-363, by any of the following methods:

• Electronic Filers: Comments may be filed electronically using the internet by accessing the ECFS: http://apps.fcc.gov/ecfs/.

• Paper Filers: Parties who choose to file by paper must file an original and one copy of each filing.

Filings can be sent by commercial overnight courier, or by first-class or overnight U.S. Postal Service mail. All filings must be addressed to the Commission's Secretary, Office of the Secretary, Federal Communications Commission.

• Commercial overnight mail (other than U.S. Postal Service Express Mail and Priority Mail) must be sent to 9050 Junction Drive, Annapolis Junction, MD 20701.

• U.S. Postal Service first-class, Express, and Priority mail must be addressed to 45 L Street NE, Washington, DC 20554.

• Effective March 19, 2020, and until further notice, the Commission no longer accepts any hand or messenger delivered filings. This is a temporary measure taken to help protect the health and safety of individuals, and to mitigate the transmission of COVID-19. See FCC Announces Closure of FCC Headquarters Open Window and Change in Hand-Delivery Policy, Public Notice, DA 20-304 (March 19, 2020). https://www.fcc.gov/document/fcc-closes-headquarters-open-window-and-changes-hand-delivery-policy.

People With Disabilities: To request materials in accessible formats for people with disabilities (braille, large print, electronic files, audio format), send an email to fcc504@fcc.gov or call the Consumer & Governmental Affairs Bureau at 202-418-0530 (voice), 202-418-0432 (TTY).

FOR FURTHER INFORMATION CONTACT: Brian Butler, Office of Engineering and Technology, 202-418-2702, Brian.Butler@fcc.gov. For information regarding the PRA information collection requirements contained in this PRA, contact Nicole Ongele, Office of Managing Director, at (202) 418-2991 or Nicole.Ongele@fcc.gov.

SUPPLEMENTARY INFORMATION: This is a summary of the Commission's Notice of Proposed Rulemaking (NPRM), ET Docket No. 21-363, ET Docket No. 19-48, FCC 22-3, adopted on January 24, 2022 and released on January 25, 2022. The full text of this document is available by downloading the text from the Commission's website at: https://www.fcc.gov/document/fcc-proposes-updates-standards-used-equipment-authorization. When the FCC Headquarters reopens to the public, the full text of this document will also be available for public inspection and copying during regular business hours in the FCC Reference Center, 45 L Street NE, Washington, DC 20554. Alternative formats are available for people with disabilities (braille, large print, electronic files, audio format), by sending an email to fcc504@fcc.gov or calling the Consumer and Governmental Affairs Bureau at 202-418-0530 (voice), 202-418-0432 (TTY).

Comment Filing Procedures

Pursuant to §§ 1.415 and 1.419 of the Commission's rules, 47 CFR 1.415, 1.419, interested parties may file comments and reply comments on or before the dates indicated on the first page of this document. Comments may be filed using the Commission's Electronic Comment Filing System (ECFS). See Electronic Filing of Documents in Rulemaking Proceedings, 63 FR 24121 (1998).

Initial Paperwork Reduction Act of 1995 Analysis

This document contains proposed modified information collection requirements. The Commission, as part of its continuing effort to reduce paperwork burdens, invites the general public and the Office of Management and Budget (OMB) to comment on the information collection requirements contained in this document, as required by the Paperwork Reduction Act of 1995, Public Law 104-13. In addition, pursuant to the Small Business Paperwork Relief Act of 2002, Public Law 107-198, see 44 U.S.C. 3506(c)(4), we seek specific comment on how we might further reduce the information collection burden for small business concerns with fewer than 25 employees.

Ex Parte Rules—Permit-But-Disclose

The proceeding this proposed rule initiates shall be treated as a “permit-but-disclose” proceeding in accordance with the Commission's ex parte rules, 47 CFR 1.1200 et seq. Persons making ex parte presentations must file a copy of any written presentation or a memorandum summarizing any oral presentation within two business days after the presentation (unless a different deadline applicable to the Sunshine period applies). Persons making oral ex parte presentations are reminded that memoranda summarizing the presentation must (1) list all persons attending or otherwise participating in the meeting at which the ex parte presentation was made, and (2) summarize all data presented and arguments made during the presentation. If the presentation consisted in whole or in part of the presentation of data or arguments already reflected in the presenter's written comments, memoranda, or other filings in the proceeding, the presenter may provide citations to such data or arguments in his or her prior comments, memoranda, or other filings (specifying the relevant page and/or paragraph numbers where such data or arguments can be found) in lieu of summarizing them in the memorandum. Documents shown or given to Commission staff during ex parte meetings are deemed to be written ex parte presentations and must be filed consistent with rule 1.1206(b). In proceedings governed by rule 1.49(f) or for which the Commission has made available a method of electronic filing, written ex parte presentations and memoranda summarizing oral ex parte presentations, and all attachments thereto, must be filed through the electronic comment filing system available for that proceeding, and must be filed in their native format (e.g., .doc, .xml, .ppt, searchable .pdf). Participants in this proceeding should familiarize themselves with the Commission's ex parte rules.

Synopsis

I. Background

The Commission's proposals are limited to the incorporation by reference of standards that are associated with equipment authorization and the recognition of Telecommunication Certification Bodies (TCBs). Incorporation by reference is the process that Federal agencies use when referring to materials published elsewhere to give those materials the same force and effect of law in the Code of Federal Regulations as if the materials' text had actually been published in the Federal Register. 5 U.S.C. 552(a)(1) and Office of the Federal Register, IBR Handbook 1 (July 2018), available at https://www.archives.gov/files/federal-register/write/handbook/ibr.pdf. By using incorporation by reference, the Commission gives effect to technical instructions, testing methodologies, and other process documents that are developed and owned by standards development organizations. Referencing these documents in the Commission's rules substantially reduces the volume of material that would otherwise be published in the Federal Register and the Code of Federal Regulations. It also permits the Commission to more efficiently implement future standards updates. Once the Commission completes any necessary notice-and-comment rulemaking proceedings and applies agency expertise to ensure that any standards adopted are sound and appropriate, the Commission need only update the references to the standards in its rules.

A. Equipment Authorization

Section 302 of the Communications Act of 1934, as amended (the Act), 47 U.S.C. 302a(a), authorizes the Commission to make reasonable regulations governing the interference potential of devices that emit RF energy and can cause harmful interference to radio communications. The Commission generally implements this authority by establishing technical rules for RF devices. Examples may be found in 47 CFR parts 15, 22, 24, 27, and 90. One of the primary ways in which the Commission ensures compliance with the technical rules is through the equipment authorization program for RF devices, procedures for which are codified in part 2 of its rules. 47 CFR part 2 subpart J. The Office of Engineering and Technology (OET) administers the day-to-day operation of the equipment authorization program under authority delegated by the Commission. 47 CFR 0.241(b).

Part 2 of the Commission's rules provides two different approval procedures for RF devices subject to equipment authorization—certification and Supplier's Declaration of Conformity (SDoC). 47 CFR 2.901. Certification is a more rigorous approval process for RF devices with the greatest potential to cause harmful interference to other radio operations. A grant of certification is an equipment authorization issued by an FCC-recognized TCB based on an evaluation of the supporting documentation and test data submitted to the TCB. 47 CFR 2.907. SDoC allows a device to be marketed on the basis of testing performed in accordance with a Commission-approved methodology by the manufacturer, assembler, importer, or seller itself without the need to submit an application to a TCB. 47 CFR 2.906. While both processes involve laboratory testing to demonstrate compliance with Commission requirements, testing associated with certification must be performed by an FCC-recognized accredited testing laboratory. 47 CFR 2.948(a).

Additionally, part 68 of the Commission's rules sets forth requirements to ensure that terminal equipment can be connected to the telephone network without harming its functioning and for the compatibility of hearing aids and land-line telephones so as to ensure that, to the fullest extent made possible by technology and medical science, people with hearing loss have equal access to communications services. In furtherance of these goals, part 68 includes unique, but similar rules related to equipment approval, TCB review, and laboratory testing. 47 CFR part 68 subpart D.

Standards

The Commission's equipment authorization rules, for example 47 CFR 2.910, 2.950, and 15.38, incorporate by reference various standards that have been established by standards-setting bodies including, but not limited to, the American National Standards Institute, Accredited Standards Committee (ASC) C63, a standards organization that is responsible for developing electromagnetic compatibility (EMC) measurement standards and testing procedures; the International Organization for Standardization (ISO), an independent, non-governmental international organization that develops voluntary international standards; and the International Electrotechnical Commission (IEC) which develops international standards for all electrical, electronic, and related technologies. Incorporating external standards within the Commission's rules has been a longstanding practice that reflects the Commission's desire, where appropriate, to harmonize its rules with international standards and aligns the Commission's rules with general federal agency guidance which urges government agencies to use industry developed standards rather than develop their own. OMB Circular A-119, Federal Participation in the Development and Use of Voluntary Consensus Standards and in Conformity Assessment Activities (updated Jan. 27, 2016), available at https://www.whitehouse.gov/omb/information-for-agencies/circulars/.

1. Measurement Standards and Laboratory Testing Procedures.

Compliance testing is central to the equipment authorization program. Section 2.947 of the Commission's rules requires test data be measured in accordance with one of three types of standards and measurement procedures, including those acceptable to the Commission and published by national engineering societies such as the Electronic Industries Association, the Institute of Electrical and Electronics Engineers, Inc., and the American National Standards Institute. 47 CFR 2.947(a)(2). Accordingly, the Commission has incorporated by reference such standards into its rules when appropriate; use of these standards is intended to ensure the integrity of the measurement data associated with an equipment authorization. For example, certification applications for unlicensed part 15 intentional radiators (47 CFR 15.3(o)) must include compliance measurement data that was obtained in accordance with the procedures specified in ANSI C63.10—2013, “American National Standard of Procedures for Compliance Testing of Unlicensed Wireless Devices” (C63.10). 47 CFR 2.1041(a) and 15.31(a)(3). Other part 15 devices that are not designed to purposely transmit RF energy, unintentional radiators (47 CFR 15.3(z)), must be tested under procedures specified in ANSI C63.4—2014: “American National Standard for Methods of Measurement of Radio-Noise Emissions from Low-Voltage Electrical and Electronic Equipment in the Range of 9 kHz to 40 GHz” (C63.4). 47 CFR 2.1041(a) and 15.31(a)(4). In addition to measurement procedures, portions of C63.4 specify particular requirements for the characteristics of test sites that are referenced in the Commission's rules. 47 CFR 2.910(c)(1) and 2.948(d). Specifically, these “test site validation” requirements are premised on the assumption that an open area test site provides the best conditions for field strength measurements of radiated emissions and test sites other than open area sites may be employed if they are properly calibrated so that the measurement results correspond to what would be obtained from an open area test site. 47 CFR 15.31(d).

2. Accreditation Standards

Compliance testing data associated with an application for certification must be obtained from a testing laboratory that has been accredited in accordance with the Commission's rules. 47 CFR 2.948(a). Accreditation of test laboratories is currently based on the International Organization for Standardization/International Electrotechnical Commission (ISO/IEC) Standard 17025:2005(E), “General requirements for the competence of testing and calibration laboratories” (ISO 17025), and on the FCC requirements. 47 CFR 2.948(e). It is the responsibility of the accreditation body to review the qualifications of a test laboratory's personnel, management systems, and record keeping and reporting practices; to send recognized experts to observe testing at the laboratory; and to verify the testing laboratory's competence to perform tests in accordance with FCC-related measurement procedures. Section 2.949 of the Commission's rules sets forth the requirements for the recognition of laboratory accreditation bodies. An entity seeking to be recognized by the Commission as an accreditation body for test laboratories must demonstrate that it complies with applicable ISO and IEC standards for recognizing such bodies and that it is competent in assessing test laboratories to perform measurements in support of the applicable FCC technical regulations. 47 CFR 2.949. The ISO/IEC standard currently used for recognizing accreditation bodies is ISO/IEC 17011:2004(E), “Conformity assessment—General requirements for accreditation bodies accrediting conformity assessment bodies” (ISO:17011). 47 CFR 2.949(b)(1) and 2.910(d)(1).

II. Discussion

In response to advancements in technologies and measurement capabilities, standards bodies periodically update their standards or adopt new standards to reflect best practices. The Commission's proposals here are based on such developments, as further informed by petitions for rulemaking filed with the Commission. Specifically, the Commission addresses two petitions filed by ASC C63: One seeking to incorporate by reference into its rules a new standard pertaining to test site validation; and one proposing to incorporate by reference a newer version of a currently referenced standard that addresses a variety of compliance testing requirements. The Commission also clarifies the status of two standards on which OET previously sought comment. Office of Engineering and Technology Seeks Comment on Modifying the Equipment Authorization Rules to Reflect the Updated Versions of the Currently Referenced ANSI C63.4 and ISO/IEC 17025 Standards, Public Notice, ET Docket No. 19-48, 34 FCC Rcd 1904, 84 FR 20088 (May 8, 2019) (Standards Update Notice). The four standards subject to the NPRM proposals are briefly summarized in the table below.

Standard | Standard being replaced | Proposed affected rule sections | Summary of rationale for proposed change
C63.25.1—2018 | N/A New standard | 2.910 2.948 | Consolidates qualification and validation procedures for radiated test sites intended for use over various frequency ranges. The C63.25.1 standard included in this proposal covers 1 to 18 GHz.
C63.10—2020 | C63.10—2013 | 15.31 15.38 | Addresses changes in technology.
ISO/IEC 17011:2017 | 17011:2004 | 2.910 | Provides more comprehensive requirements for accreditation bodies.
|  | 2.948 |
|  | 2.949 |
|  | 2.950 |
|  | 2.960 |
|  | 68.160 |
ISO/IEC 17025:2017 | 17025:2005 | 2.910 | Provides more comprehensive requirements for testing and calibration labs.
|  | 2.948 |
|  | 2.949 |
|  | 2.962 |
|  | 68.162 |

A. “American National Standard Validation Methods for Radiated Emission Test Sites; 1 GHz to 18 GHz” (C63.25.1)

On March 6, 2020, ASC C63 filed a petition for rulemaking requesting that the Commission incorporate by reference into the test site validation requirements of § 2.948(d) of the Commission's rules the ANSI C63.25.1—2018 standard, titled “American National Standard Validation Methods for Radiated Emission Test Sites; 1 GHz to 18 GHz” (C63.25.1). Petition of the American National Standards Institute, Accredited Standards Committee, C63 Requesting adoption of ANSI C63.25.1—2018 into the Commission's part 2 rules for EMC test site validation from 1 GHz-18 GHz (filed March 6, 2020) https://www.fcc.gov/ecfs/filing/10306816406385 (C63.25.1 Petition). Under the Commission's current rules, measurement facilities used to make radiated emission measurements from 30 MHz to 1 GHz must comply with the site validation requirements in ANSI C63.4—2014 (clause 5.4.4), and, for radiated emission measurements from 1 GHz to 40 GHz the site validation requirements in ANSI C63.4—2014 (clause 5.5.1 a) 1)) apply. 47 CFR 2.948(d). In the C63.25.1 Petition, ASC C63 asks the Commission to adopt the C63.25.1 standard as an additional option for test site validation of radiated emission measurements from 1 GHz to 18 GHz.

ASC C63 describes how the C63.25.1 standard consolidates guidance from existing standards to provide test site validation procedures from 1 GHz to 18 GHz while providing an additional testing methodology and states that it expects that future iterations of the standard will cover additional frequencies. For example, the C63.25.1 standard includes a CISPR 16 technique known as the site voltage standing wave ratio (SVSWR) approach to validate test sites for frequencies above 1 GHz, which measures responses between antennas while varying their distances. C63.25.1 also introduces the option of using a new effective test validation method called time domain site validation (TDSV), which ASC C63 says is not yet available or recognized in comparable international standards. ASC C63 states that while TDSV is similar to SVSWR, in that both measure responses between antennas, varying the distance between antennas is not necessary; thus, it asserts, the TDSV method provides a reduction in the sensitivity of test results caused by small test setup changes at higher frequencies where the associated wavelengths are relatively short. Overall, ASC C63 asserts that TDSV improves measurement repeatability, provides additional information on the test site, and “reduces the sensitivity of the test results caused by small test setup changes due to statistical post processing incorporated in the TDSV method,” while requiring less time to perform the validation. In short, ASC C63 has described reasons why, even though both SVSWR and TDSV use the same acceptance criterion, parties might want to use the TDSV method.

In consideration of ASC C63's request, the Commission proposes to incorporate ANSI C63.25.1—2018 into its rules, and to allow this standard to be used for test site validation of radiated emission measurements from 1 GHz to 18 GHz. The Commission tentatively concludes that the availability of this additional option would provide useful options and potential benefits in site validation testing, particularly considering that parties could continue to use the procedures currently described in the Commission's rules if they chose to do so. If the Commission adopts this proposal, it tentatively concludes that it is appropriate to incorporate the entire standard by reference. However, the Commission asks whether any procedures or techniques included in ANSI C63.25.1—2018 would not be appropriate for use in the context of demonstrating compliance with the Commission's equipment authorization rules. Commenters in this regard should provide details of their concerns and specifically cite any rule sections for which the new standard may be problematic. Additionally, for which other Commission rules would a reference to ANSI C63.25.1—2018 be appropriate? Because the Commission is proposing to incorporate ANSI C63.25.1—2018 as an option to an already existing requirement, the Commission tentatively concludes that there is no need to designate a transition period. The Commission seeks comment on these tentative conclusions.

B. “American National Standard of Procedures for Compliance Testing of Unlicensed Wireless Devices” (ANSI C63.10)

On February 4, 2021, the Commission received a petition from ASC C63 requesting that it incorporate by reference ANSI C63.10—2020 “American National Standard of Procedures for Compliance Testing of Unlicensed Wireless Devices” into the rules. Petition of the American National Standards Institute, Accredited Standards Committee, C63 Requesting adoption of ANSI C63.10—2020 into the parts 2 and 15 Rules for Compliance Testing Of Unlicensed Radio Devices (filed February 4, 2021). https://www.fcc.gov/ecfs/filing/10204284915782 (C63.10 Petition). This standard, which was approved by ANSI on September 10, 2020, updates the measurement procedures set forth in ANSI C63.10—2013, which is currently referenced in 47 CFR 2.910(c)(2), 2.950(g), and 15.38(g)(3). The standard addresses “the procedures for testing the compliance of a wide variety of unlicensed wireless transmitters . . . including, but not limited to, remote control and security unlicensed wireless devices, frequency hopping and direct sequence spread spectrum devices, anti-pilferage devices, cordless telephones, medical unlicensed wireless devices, [U-NII] devices, intrusion detectors, unlicensed wireless devices operating on frequencies below 30 MHz, automatic vehicle identification systems, and other unlicensed wireless devices authorized by a radio regulatory authority.” Daniel Hoolihan, The American National Standards Committee on EMC—C63®—An Update on Recent Standards Development Activities (June 30, 2021), https://incompliancemag.com/article/the-american-national-standards-committee-on-emc-c63/.

Specifically, this recent version of the standard includes the following changes and updates:

• Frequency hopping spread spectrum procedures were updated to ensure complete on and off times are correctly considered;

• Digital transmission system (DTS) and unlicensed national information infrastructure (U-NII) device procedures were updated to align with the latest FCC KDB guidance;

• Millimeter wave measurement procedures were updated;

• TV White Space test methods were added to the standard;

• Pulse desensitization considerations for frequency-modulated continuous wave (FMCW) type signals are now addressed by the standard;

• Procedures were added for wireless power transfer (WPT) devices that transmit information on the charging frequency;

• Measurement procedures were generally updated to allow for more accurate analyzer sweep time settings where “auto” was previously required;

• Editorial corrections/updates were made;

• Requirements for including spectral plots were added; and

• An informative annex was included to provide an overview of dynamic frequency selection (DFS) for U-NII devices.

In light of ASC C63's request, the Commission proposes to incorporate ANSI C63.10—2020 into its rules to replace existing references to ANSI C63.10—2013. The Commission tentatively concludes that it is appropriate to simply replace the existing standard references with references to the new standard, subject to an appropriate transition period. Are there any procedures or techniques included in ANSI C63.10—2020 that would not be appropriate for use in the context of demonstrating compliance with the Commission's equipment authorization rules? Commenters in this regard should provide details of their concerns and specifically cite any rule sections for which the new standard may be problematic. Would a transition period during which either version of ANSI C63.10 could be used remedy these concerns? If so, what time period would be appropriate, and should it generally apply to all rules affected by the new reference? Noting that testing laboratories are re-accredited every two years per 47 CFR 2.948(e), would a two-year transition be appropriate or would a shorter period be sufficient? Additionally, which, if any, of the Commission rules that do not currently reference ANSI C63.10—2013 should reference ANSI C63.10—2020?

C. “Conformity assessment—Requirements for accreditation bodies accrediting conformity assessment bodies” (ISO/IEC 17011)

Applications for RF devices that are subject to the certification requirements of part 2 of the Commission's rules must be filed with, and approved by, an accredited TCB. 47 CFR 2.907, 2.960(b). Additionally, terminal equipment intended for connection to the public switched telephone network must be subject to certification by a TCB or the Supplier's Declaration of Conformity procedures as set forth in part 68 of the Commission's rules. 47 CFR 68.201.Testing laboratories that provide compliance measurement data associated with part 2 certification applications also must be accredited. 47 CFR 2.948(a). In these instances, TCBs and testing laboratories are accredited by a “conformity assessment body,” that meets the requirements and conditions of ISO/IEC 17011:2004 “Conformity assessment—Requirements for accreditation bodies accrediting conformity assessment bodies.” 47 CFR 2.960 and 2.949. ISO/IEC 17011:2004 was incorporated into the Commission's rules in 2014. See FCC Modifies Equipment Authorization Rules, ET Docket No. 13-44, Report and Order, 29 FCC Rcd 16335, 16356-58, paras. 50-53; 80 FR 33425, 33430-31 (June 12, 2015). A new version of this standard, ISO/IEC 17011:2017, was published in November 2017. The revisions to the standard incorporate changes related to alignment with the International Organization for Standardization's Committee on Conformity Assessment (CASCO) common structure for standards and incorporation of CASCO common elements in clauses on impartiality, confidentiality, complaints and appeal, and management system; recognition of proficiency testing as an accreditation activity; addition of new definitions; introduction of the concept of risk; and incorporation of competence criteria in the document, including an informative annex on knowledge and skills. See International Organization for Standardization, ISO/IEC 17011:2004(E): Conformity assessment—General requirements for accreditation bodies accrediting conformity assessment bodies, First Edition, (September 2004); International Organization for Standardization, ISO/IEC 17011:2017: Conformity assessment—Requirements for accreditation bodies accrediting conformity assessment bodies, Second Edition (November 2017). The Commission proposes to replace the references to ISO/IEC 17011:2004(E) in 47 CFR 2.910, 2.948, 2.949, 2.950, 2.960, and 68.160 with references to ISO/IEC 17011:2017(E), subject to a reasonable transition period. Commenters with concerns related to updating any of these references should specifically cite any rule sections for which the updated standard may be problematic or portions of ISO/IEC 17011:2017(E) that should be excluded from the updated incorporation by reference and provide alternatives or a detailed explanation of their concerns. To ensure adequate time for the transition, the Commission proposes a two-year transition period during which both versions of ISO/IEC 17011 could be used. Is this time period sufficient and, if not, what would be an appropriate timeframe?

D. Other Standards

1. 2019 Public Notice

In April of 2019, OET sought comment on updating the Commission's rules to reflect recent changes to two standards: ISO/IEC 17025:2017(E) “General requirements for the competence of testing and calibration laboratories” and ANSI C63.4a—2017 “American National Standard for Methods of Measurement of Radio-Noise Emissions from Low-Voltage Electrical and Electronic Equipment in the Range of 9 kHz to 40 GHz, Amendment 1: Test Site Validation.” In opening up the instant docket, we seek a fresh record on these matters, as set forth in the proposals that we lay out in detail below. Accordingly, we are terminating the docket that the Standards Update Notice had opened (i.e., ET Docket No. 19-48).

a. “General Requirements for the Competence of Testing and Calibration Laboratories” (ISO/IEC 17025)

Measurement data intended to demonstrate compliance with certain Commission requirements must be obtained from an accredited testing laboratory. 47 CFR 2.948(a). Currently, 47 CFR 2.910, 2.948, 2.949, 2.962, and 68.162 reference ISO/IEC 17025:2005(E) for the requirements related to test laboratory accreditation. Laboratory accreditation bodies assess a variety of aspects of a laboratory, including the technical competence of staff; the validity and appropriateness of test methods; traceability of measurements and calibration to national standards; suitability, calibration, and maintenance of the testing environment; sampling, handling, and transportation of test items; and quality assurance of test and calibration data. In November 2017, ISO/IEC published ISO/IEC 17025:2017(E)—a new version of the test laboratory accreditation standard currently referenced in the Commission's rules. In addition to adding a definition of “laboratory,” the new version replaces certain prescriptive requirements with performance-based requirements and allows for greater flexibility in satisfying the standard's requirements for processes, procedures, documented information, and organizational responsibilities.

Standards Update Notice, 34 FCC Rcd at 1905 and n.8 (citing ISO/IEC 17025 General requirements for the competence of testing and calibration laboratories, ISO (2017), available at https://www.ukas.com/download/brochures/ISO-17025-Brochure_EN_FINAL.pdf).

In the Standards Update Notice, OET proposed to update the Commission's rules by replacing references to ISO/IEC 17025:2005(E) with references to ISO/IEC 17025:2017(E). All comments received were supportive of this updated reference. ANSI ASC C63, while supportive, stated that “ASC C63 also supports the transition period (two years are remaining) to the mandatory use of ISO/IEC 17025:2017; provided however, that the FCC only accept test lab accreditations for labs that meet the requirements of Clause 8.1—Option A of the standard, and that such accreditations explicitly state that the test lab is accredited only in accordance with Option A.” Reply Comments of ASC C63, ET Docket No. 19-48, at 2.

The Commission proposes to incorporate by reference into its rules ISO/IEC 17025:2017 in its entirety, including Clause 8.1—Option A and Option B and update 47 CFR 68.162(d)(1) to correct typographical errors in the reference of two standards: ISO/IEC 17065 and ISO/IEC 17025. No other party has raised concerns with the availability of two options and ASC C63 did not provide detailed rationale to support their request to incorporate only Option A. In fact, Annex B of ISO/IEC 17025:2017 states that “[b]oth options are intended to achieve the same result in the performance of the management system and compliance with clauses 4 to 7.” It is the Commission's understanding that Option B would allow laboratories to operate a quality management system that conforms to a certain standard from the International Organization for Standardization (i.e., ISO 9001) and that Option A of ISO/IEC 17025:2017 incorporates relevant requirements of that same standard. OET believes that Option A is more commonly used but Option B is available because some organizations have implemented an ISO 9001 system and would not need to take additional actions to demonstrate compliance. International Organization for Standardization, ISO/IEC 17025:2017: General requirements for the competence of testing and calibration laboratories at Appendix B, Third Edition (November 2017). Accordingly, the Commission tentatively concludes that the flexibility of both options would enable entities who have already implemented a quality management system that would satisfy Option B to avoid the need to take further steps to demonstrate compliance and it seeks comment on this tentative conclusion and on any concerns with providing both options.

While both ISO/IEC 17025:2005(E) and ISO/IEC 17025:2017(E) were considered valid during the transition period in effect at the time of the Standards Update PN, accreditations to ISO/IEC 17025:2005(E) became invalid after June 1, 2021. In the Standards Update PN, OET proposed to adopt a three-year transition period for use of the proposed updated standard. In consideration of the time that has passed since publication of the Standards Update PN, combined with the facts that the Commission's rules require test laboratories to complete the accreditation process every two years (47 CFR 2.948(e)) and that the prior standard has since become invalid within the standards body, the Commission proposes a two-year transition period for compliance with ISO/IEC 17025:2017(E). The Commission seeks comment on the duration of this proposed transition period and how it should be reflected in any transition plans that it adopts.

b. “Addendum to the American National Standard for Methods of Measurement of Radio-Noise Emissions from Low-Voltage Electrical and Electronic Equipment in the Range of 9 kHz to 40 GHz, Amendment 1: Test Site Validation” (ANSI C63.4a—2017)

In late 2017, ASC C63 published ANSI C63.4a—2017 “Addendum to the American National Standard for Methods of Measurement of Radio-Noise Emissions from Low-Voltage Electrical and Electronic Equipment in the Range of 9 kHz to 40 GHz, Amendment 1: Test Site Validation” (ANSI C63.4a—2017). ASC C63 requested that we incorporate by reference in the Commission's rules ANSI C63.4a—2017 to replace the existing ANSI C63.4—2014: “American National Standard for Methods of Measurement of Radio-Noise Emissions from Low-Voltage Electrical and Electronic Equipment in the Range of 9 kHz to 40 GHz” (ANSI C63.4). ASC C63 originally filed comments in ET Docket No. 15-170, which were subsequently moved into ET Docket No 19-48. The Commission's rules reference ANSI 63.4 as an electromagnetic compatibility (EMC) measurement standard for unintentional radiators. 47 CFR 2.910, 2.948, 2.950, 15.31, 15.35, and 15.38. As described in ASC C63's filing, the standard was updated to resolve certain normalized site attenuation issues (including the measurement of equipment under test that exceeds 2 meters in height) and make a variety of corrections, clarifications, and modifications. In the Standards Update Notice, OET sought comment on incorporating by reference ANSI C63.4a—2017 in the appropriate rules. Standards Update Notice at 1904-05. Some commenters supported incorporation of the amended standard. However, the Commission received several negative comments, generally citing costs associated with the procedure and stating that there were no problems with existing procedures that warrant adopting an alternative procedure. Further, the Commission indicates its understanding that ASC C63 has made substantial progress toward addressing these and other controversial issues in a pending modification. Based on the comments received and the potential development of an additional modification to the standard, the Commission tentatively concludes that ANSI C63.4 continues to sufficiently address current needs and that incorporation by reference of ANSI C63.4a—2017 into its rules is not warranted at this time. The Commission seeks comment on this tentative conclusion.

2. Additional Updates: “Calibration and Testing Laboratory Accreditation Systems—General Requirements for Operation and Recognition” (ISO/IEC Guide 58:1993(E)); “General Requirements for Assessment and Accreditation of Certification/Registration Bodies” (ISO/IEC Guide 61:1996(E)); and “General Requirements for Bodies Operating Product Certification Systems” (ISO/IEC Guide 65:1996(E))

The Commission notes that its part 2 rules incorporate several references that have become outdated as a result of prior updates to standards that were phased in over specific transition periods. 47 CFR 2.910 and 2.950. Once the transition period passed, the newer standards became the only valid procedure for compliance with the Commission's rules, rendering the prior references no longer relevant. Accordingly, the Commission proposes to delete from § 2.910 of the Commission's rules references to: ISO/IEC Guide 58:1993(E), “Calibration and testing laboratory accreditation systems—General requirements for operation and recognition,” First Edition 1993; ISO/IEC Guide 61:1996(E), “General requirements for assessment and accreditation of certification/registration bodies,” First Edition 1996; and (6) ISO/IEC Guide 65:1996(E), “General requirements for bodies operating product certification systems.” The Commission also proposes to delete the related transition periods provided in § 2.950. 47 CFR 2.910(d)4 through 6 and 47 CFR 2.950 (b), (c) and (d). Additionally, the Commission also proposes to make administrative changes to its rules to reflect any necessary changes to rule cross references that would result from the proposed rule changes.

The Commission seeks comment on whether there are additional conforming or administrative updates to its t rules that should be considered. Additionally, the Commission asks what other rule modifications, including updating other standards currently referenced in the rules or incorporating by reference additional standards not currently referenced in the rules, would be necessary to give full effect to its proposals? Because the standards-setting process is marked by ongoing work to create, review, and update standards, the Commission recognizes that the proposals are part of a larger and continuing effort to ensure that its rules incorporate appropriate standards and reflect relevant standards updates. Commission staff actively monitor the work of standards development organizations, and the Commission is aware that additional standards relevant to the telecommunications sector are in various stages of drafting, voting, and publication. While such developments may warrant the Commission's consideration in the future, it is not seeking comment on such standards within this Notice of Proposed Rulemaking.

III. Incorporation by Reference

Sections 2.910 and 2.948 of the proposed rules provide for an additional standard (“American National Standard Validation Methods for Radiated Emission Test Sites; 1 GHz to 18 GHz” (ANSI C63.25.1)) that would be used for test site validation of radiated emission measurements from 1 GHz to 18 GHz. Sections 15.31 and 15.38 of the proposed rules provide for a standard (“American National Standard of Procedures for Compliance Testing of Unlicensed Wireless Devices” (ANSI C63.10)) that would update existing procedures for testing the compliance of a wide variety of unlicensed wireless transmitters. Sections 2.910, 2.948, 2.949, 2.950, 2.960, and 68.160 provide for a standard (“Conformity assessment—Requirements for accreditation bodies accrediting conformity assessment bodies” (ISO/IEC 17011)) that would update requirements and conditions for conformity assessment bodies that accredit TCBs and testing laboratories. Sections 2.910, 2.948, 2.949, 2.962, and 68.62 provide a standard (“General requirements for the competence of testing and calibration laboratories” (ISO/IEC 17025)) that would replace certain prescriptive requirements with performance-based requirements for test laboratory accreditation. The OFR has regulations concerning incorporation by reference. 1 CFR part 51. These regulations require that, for a proposed rule, agencies must discuss in the preamble to the proposed rule the way in which materials that the agency incorporates by reference are reasonably available to interested parties, and how interested parties can obtain the materials. Additionally, the preamble to the proposed rule must summarize the material. 1 CFR 51.5(a).

In accordance with the OFR's requirements, the discussion in section II.A. of this preamble summarizes the provisions of ANSI C63.25.1—2018. Interested persons may purchase a copy of ANSI C63.25.1 from the sources provided in 47 CFR 2.910. A copy of the standard may also be inspected at the FCC's main office. The discussion in section II.B. of this preamble summarizes the provisions of ANSI C63.10—2020. Interested persons may purchase a copy of ANSI C63.10—2018 from the sources provided in 47 CFR 2.910. A copy of the standard may also be inspected at the FCC's main office. The discussion in section II.C. of this preamble summarizes the provisions of ISO/IEC 17011:2017(E). Interested persons may purchase a copy of ISO/IEC 17011:2017(E) from the sources provided in 47 CFR 2.910. A copy of the standard may also be inspected at the FCC's main office. The discussion in sections I.A.1. and II.D.1.a of this preamble summarizes the provisions of ISO/IEC 17025:2005(E). Interested persons may purchase a copy of ISO/IEC 17025:2005(E) from the sources provided in 47 CFR 2.910. A copy of the standard may also be inspected at the FCC's main office. The discussion in section II.D.1.a. of this preamble summarizes the provisions of ISO/IEC 17025:2017(E). Interested persons may purchase a copy of ISO/IEC 17011:2017(E) from the sources provided in 47 CFR 2.910. A copy of the standard may also be inspected at the FCC's main office.

IV. Procedural Matters

Initial Regulatory Flexibility Analysis. As required by the Regulatory Flexibility Act of 1980 (RFA) (see 5 U.S.C. 603), as amended (RFA), the Commission has prepared an Initial Regulatory Flexibility Analysis (IRFA) of the possible significant economic impact on a substantial number of small entities of the proposals addressed in this Notice of Proposed Rulemaking. The IRFA is found in Appendix B. Written public comments are requested on the IRFA. These comments must be filed in accordance with the same filing deadlines for comments on the Notice of Proposed Rulemaking, and they should have a separate and distinct heading designating them as responses to the IRFA. The Commission's Consumer and Governmental Affairs Bureau, Reference Information Center, will send a copy of this Notice of Proposed Rulemaking, including the IRFA, to the Chief Counsel for Advocacy of the Small Business Administration, in accordance with the RFA. See 5 U.S.C. 603(a).

Paperwork Reduction Act. This document contains proposed modified information collection requirements. The Commission, as part of its continuing effort to reduce paperwork burdens, invites the general public and the Office of Management and Budget (OMB) to comment on the information collection requirements contained in this document, as required by the Paperwork Reduction Act of 1995, Public Law 104-13. In addition, pursuant to the Small Business Paperwork Relief Act of 2002, Public Law 107-198, see 44 U.S.C. 3506(c)(4), we seek specific comment on how we might further reduce the information collection burden for small business concerns with fewer than 25 employees.

Ex Parte Rules—Permit but Disclose. Pursuant to § 1.1200(a) of the Commission's rules, (47 CFR 1.1200(a)) this Notice of Proposed Rulemaking shall be treated as a “permit-but-disclose” proceeding in accordance with the Commission's ex parte rules. 47 CFR 1.1200 et seq. Persons making ex parte presentations must file a copy of any written presentation or a memorandum summarizing any oral presentation within two business days after the presentation (unless a different deadline applicable to the Sunshine period applies). Persons making oral ex parte presentations are reminded that memoranda summarizing the presentation must (1) list all persons attending or otherwise participating in the meeting at which the ex parte presentation was made, and (2) summarize all data presented and arguments made during the presentation. If the presentation consisted in whole or in part of the presentation of data or arguments already reflected in the presenter's written comments, memoranda or other filings in the proceeding, the presenter may provide citations to such data or arguments in his or her prior comments, memoranda, or other filings (specifying the relevant page and/or paragraph numbers where such data or arguments can be found) in lieu of summarizing them in the memorandum. Documents shown or given to Commission staff during ex parte meetings are deemed to be written ex parte presentations and must be filed consistent with rule 1.1206(b). In proceedings governed by rule 1.49(f) or for which the Commission has made available a method of electronic filing, written ex parte presentations and memoranda summarizing oral ex parte presentations, and all attachments thereto, must be filed through the electronic comment filing system available for that proceeding, and must be filed in their native format (e.g., .doc, .xml, .ppt, searchable .pdf). Participants in this proceeding should familiarize themselves with the Commission's ex parte rules.

List of Subjects

47 CFR Parts 2, and 68

Communications equipment, Incorporation by reference, Reporting and recordkeeping requirements, Telecommunications.

47 CFR Part 15

Communications equipment, Incorporation by reference, Reporting and recordkeeping requirements.

47 CFR Part 73

Communications equipment, Reporting and recordkeeping requirements, Telecommunications.

Federal Communications Commission.
Katura Jackson,
Federal Register Liaison Officer.

Proposed Rules

For the reasons discussed in the preamble, the Federal Communications Commission proposes to amend 47 CFR parts 2, 15, 68, and 73 as follows:

PART 2—FREQUENCY ALLOCATIONS AND RADIO TREATY MATTERS; GENERAL RULES AND REGULATIONS

1. The authority citation for part 2 continues to read as follows:

Authority: 47 U.S.C. 154, 302a, 303, and 336.

2. Revise § 2.910 to read as follows:

§ 2.910 Incorporation by Reference.

Certain material is incorporated by reference into this part with the approval of the Director of the Federal Register in accordance with 5 U.S.C. 552(a) and 1 CFR part 51. To enforce any edition other than that specified in this section, the Federal Communications Commission (FCC) must publish a document in the Federal Register and the material must be available to the public. All approved material is available for inspection at the FCC and at the National Archives and Records Administration (NARA). Contact FCC at the address indicated in 47 CFR 0.401(a), tel: (202) 418-0270. For information on the availability of this material at NARA, email: fr.inspection@nara.gov, or go to: www.archives.gov/federal-register/cfr/ibr-locations.html. The material may be obtained from the following source(s):

(a) International Electrotechnical Commission (IEC), IEC Central Office, 3, rue de Varembe, CH-1211 Geneva 20, Switzerland; email: inmail@iec.ch; website: www.iec.ch.

(1) CISPR 16-1-4:2010-04: “Specification for radio disturbance and immunity measuring apparatus and methods—Part 1-4: Radio disturbance and immunity measuring apparatus—Antennas and test sites for radiated disturbance measurements”, Edition 3.0, 2010-04; IBR approved for § 2.948(d).

(2) [Reserved]

(b) Institute of Electrical and Electronic Engineers (IEEE), 2001 L Street NW, Suite 700, Washington, DC 20036-4910, tel: +1 800 701 IEEE (USA and Canada), +1 732 981 0060 (Worldwide), email: stds-info@ieee.org; website: www.ieee.org.

(1) ANSI C63.4—2014: “American National Standard for Methods of Measurement of Radio-Noise Emissions from Low-Voltage Electrical and Electronic Equipment in the Range of 9 kHz to 40 GHz”, ANSI approved June 13, 2014 ; IBR approved for § 2.948(d).

(2) ANSI C63.25.1—2018, “American National Standard Validation Methods for Radiated Emission Test Sites, 1 GHz to 18 GHz”, ANSI approved December 17, 2018; IBR approved for § 2.948(d).

(3) ANSI C63.26—2015, “American National Standard of Procedures for Compliance Testing of Transmitters Used in Licensed Radio Services”, ANSI approved December 11, 2015, IBR approved for § 2.1041(b).

(c) International Organization for Standardization (ISO), 1, ch. De la Voie-Creuse, CP 56, CH-1211, Geneva 20, Switzerland; tel.: + 41 22 749 01 11; fax: + 41 22 733 34 30; email: central@iso.org; website: www.iso.org.

(1) ISO/IEC 17011:2004(E), “Conformity assessment—General requirements for accreditation bodies accrediting conformity assessment bodies”, First Edition, 2004-09-01; IBR approved for §§ 2.948(e); 2.949(b); 2.950(a); 2.960(c).

(2) ISO/IEC 17011:2017(E), “Conformity assessment—Requirements for accreditation bodies accrediting conformity assessment bodies”, Second Edition, November 2017; IBR approved for §§ 2.948(e); 2.949(b); 2.950(a); 2.960(c).

(3) ISO/IEC 17025:2005(E), “General requirements for the competence of testing and calibration laboratories”, Second Edition, 2005-05-15; IBR approved for §§ 2.948(e); 2.949(b); 2.950(b); 2.962(c) and (d).

(4) ISO/IEC 17025:2017, “General requirements for the competence of testing and calibration laboratories”, Third Edition, November 2017; IBR approved for §§ 2.948(e); 2.949(b); 2.950(b); 2.962(c) and (d).

(5) ISO/IEC 17065:2012(E), “Conformity assessment—Requirements for bodies certifying products, processes and services”, First Edition, 2012-09-15; IBR approved for §§ 2.960(b); 2.962(b), (c), (d), (f), and (g).

Note 1 to § 2.910: The standard(s) listed in paragraph (b) of this section may also be obtained through the IEEE Standards Association Standards Store: P.O. Box 95715, Chicago, IL 60694-5715; website: www.techstreet.com/ieee.

Note 2 to § 2.910: The standard(s) listed in paragraphs (b) and (c) of this section may also be obtained from the American National Standards Institute (ANSI) through its NSSN operation (www.nssn.org), at Customer Service, American National Standards Institute, 25 West 43rd Street, New York, NY 10036, phone: (212) 642-4900.

3. Amend § 2.948 by revising paragraph (d) to read as follows:

§ 2.948 Measurement facilities.

* * * * *

(d) When the measurement method used requires the testing of radiated emissions on a validated test site, the site attenuation must comply with the requirements of sections 5.4.4 through 5.5 of the following procedure: ANSI C63.4 (incorporated by reference, see § 2.910). Measurement facilities used to make radiated emission measurements from 30 MHz to 1 GHz must comply with the site validation requirements in ANSI C63.4 (clause 5.4.4); for radiated emission measurements from 1 GHz to 18 GHz must comply with either the site validation requirement of ANSI C63.25.1 or ANSI C63.4 (clause 5.5.1 a) 1)), such that the site validation criteria called out in CISPR 16-1-4 (incorporated by reference, see § 2.910) is met; for radiated emission measurements from 18 GHz to 40 GHz must comply with the site validation requirement of ANSI C63.4 (clause 5.5.1 a) 1)), such that the site validation criteria called out in CISPR 16-1-4 (incorporated by reference, see § 2.910) is met. Test site revalidation must occur on an interval not to exceed three years.

* * * * *

4. Revise § 2.950 to read as follows:

§ 2.950 Transition periods.

(a) Prior to [DATE 2 YEARS AFTER EFFECTIVE DATE OF FINAL RULE], an organization accrediting the prospective accredited testing laboratory must be capable of meeting the requirements and conditions of ISO/IEC 17011:2004 (incorporated by reference, see § 2.910) or ISO/IEC 17011:2017 (incorporated by reference, see § 2.910). On or after [DATE 2 YEARS AFTER EFFECTIVE DATE OF FINAL RULE], an organization accrediting the prospective accredited testing laboratory must be capable of meeting the requirements and conditions of ISO/IEC 17011:2017 (incorporated by reference, see § 2.910).

(b) Prior to [DATE 2 YEARS AFTER EFFECTIVE DATE OF FINAL RULE], an organization accrediting the prospective accredited testing laboratory must be capable of meeting the requirements and conditions of ISO/IEC 17025:2005 (incorporated by reference, see § 2.910) or ISO/IEC 17025:2017 (incorporated by reference, see § 2.910). On or after [DATE 2 YEARS AFTER EFFECTIVE DATE OF FINAL RULE], an organization accrediting the prospective accredited testing laboratory must be capable of meeting the requirements and conditions of ISO/IEC 17025:2017 (incorporated by reference, see § 2.910).

(c) All radio frequency devices that were authorized under the verification or Declaration of Conformity procedures prior to November 2, 2017, must continue to meet all requirements associated with the applicable procedure that were in effect immediately prior to November 2, 2017. If any changes are made to such devices after November 2, 2018, the requirements associated with the Supplier's Declaration of Conformity apply.

PART 15—RADIO FREQUENCY DEVICES

5. The authority citation for part 15 continues to read as follows:

Authority: 47 U.S.C. 154, 302a, 303, 304, 307, 336, 544a, and 549.

6. Amend § 15.31 by revising paragraph (a)(3) to read as follows:

§ 15.31 Measurement standards.

(a) * * *

(3) Other intentional radiators must be measured for compliance using the following procedure: ANSI C63.10 (incorporated by reference, see § 15.38).

* * * * *

7. Amend § 15.37 by adding paragraph (r) to read as follows:

§ 15.37 Transition provisions for compliance with this part.

* * * * *

(r) Prior to [DATE 2 YEARS AFTER EFFECTIVE DATE OF FINAL RULE], measurements for intentional radiators subject to § 15.31(a)(3) must be made using the procedures in ANSI C63.10—2013 or ANSI C63.10—2020 (incorporated by reference, see § 15.31(a)(3)). On or after [DATE 2 YEARS AFTER EFFECTIVE DATE OF FINAL RULE], measurements for intentional radiators subject to this part 15 must be made using the procedures in ANSI C63.10—2020 (incorporated by reference, see § 15.31(a)(3)).

8. Amend § 15.38 as follows:

a. Throughout the section,

i. By removing the text “The following documents are available from the following address:” wherever it appears;

ii. By removing the text “The following document is available from the” in paragraph (e); and

iii. By removing the text “The following documents are available from the following address:” in paragraph (h);

b. By revising paragraphs (a) and (g).

The revisions read as follows:

§ 15.38 Incorporation by Reference.

(a) Certain material is incorporated by reference into this part with the approval of the Director of the Federal Register in accordance with 5 U.S.C. 552(a) and 1 CFR part 51. To enforce any edition other than that specified in this section, the Federal Communications Commission (FCC) must publish a document in the Federal Register and the material must be available to the public. All approved material is available for inspection at the FCC and at the National Archives and Records Administration (NARA). Contact FCC at the address indicated in 47 CFR 0.401(a), Tel: (202) 418-0270. For information on the availability of this material at NARA, email: fr.inspection@nara.gov, or go to: www.archives.gov/federal-register/cfr/ibr-locations.html. The material may be obtained from the source(s) in the following paragraph(s) of this section.

* * * * *

(g) Institute of Electrical and Electronic Engineers (IEEE), 2001 L Street NW, Suite 700, Washington, DC 20036-4910, tel: +1 800 701 IEEE (USA and Canada), +1 732 981 0060 (Worldwide), email: stds-info@ieee.org; website: www.ieee.org.

(1) ANSI C63.4—2014: “American National Standard for Methods of Measurement of Radio-Noise Emissions from Low-Voltage Electrical and Electronic Equipment in the Range of 9 kHz to 40 GHz” ' ANSI approved June 13, 2014; IBR approved for §§ 15.31(a); 15.35(a).

(2) ANSI C63.10—2013, “American National Standard of Procedures for Compliance Testing of Unlicensed Wireless Devices”, ANSI approved June 27, 2013; IBR approved for §§ 15.31(a); 15.37(r) .

(3) ANSI C63.10—2020, “American National Standard of Procedures for Compliance Testing of Unlicensed Wireless Devices”, ANSI approved January 29, 2021; IBR approved for §§ 15.31(a); 15.37(r).

* * * * *

Note 1 to § 15.38: The standard(s) listed in paragraph (g) of this section may also be obtained through IEEE Standards Association Store: P.O. Box 95715, Chicago, IL 60694-5715; website: www.techstreet.com/ieee.

PART 68—CONNECTION OF TERMINAL EQUIPMENT TO THE TELEPHONE NETWORK

9. The authority citation for part 68 continues to read as follows:

Authority: 47 U.S.C. 154, 303, and 610.

10. Amend § 68.160 by revising paragraphs (c)(1) and (d) to read as follows:

§ 68.160 Designation of Telecommunication Certification Bodies (TCBs).

* * * * *

(c) * * *

(1) Prior to [DATE 2 YEARS AFTER EFFECTIVE DATE OF FINAL RULE], the organization accrediting the prospective telecommunication certification body must be capable of meeting the requirements and conditions of ISO/IEC 17011:2014 or ISO/IEC 17011:2017. On or after [DATE 2 YEARS AFTER EFFECTIVE DATE OF FINAL RULE], the organization accrediting the prospective telecommunication certification body must be capable of meeting the requirements and conditions of ISO/IEC 17011:2017.

* * * * *

(d) Incorporation by reference. The material listed in this paragraph (d) is incorporated by reference into this section with the approval of the Director of the Federal Register in accordance with 5 U.S.C. 552(a) and 1 CFR part 51. To enforce any edition other than that specified in this section, the Federal Communications Commission (FCC) must publish a document in the Federal Register and the material must be available to the public. All approved material is available for inspection at the FCC and at the National Archives and Records Administration (NARA). Contact FCC at the address indicated in 47 CFR 0.401(a), Tel: (202) 418-0270. For information on the availability of this material at NARA, email: fr.inspection@nara.gov, or go to: www.archives.gov/federal-register/cfr/ibr-locations.html. The material may be obtained from the following source(s) in this paragraph (d):

(1) International Organization for Standardization (ISO), 1, ch. De la Voie-Creuse, CP 56, CH-1211, Geneva 20, Switzerland; www.iso.org; Tel.: + 41 22 749 01 11; Fax: + 41 22 733 34 30; email: central@iso.org.

(i) ISO/IEC 17011:2004(E), “Conformity assessment—General requirements for accreditation bodies accrediting conformity assessment bodies,” First Edition, 2004-09-01.

(ii) ISO/IEC 17011:2017(E), “Conformity assessment—Requirements for accreditation bodies accrediting conformity assessment bodies,” Second Edition, November 2017.

(iii) ISO/IEC 17065:2012(E), “Conformity assessment—Requirements for bodies certifying products, processes and services,” First Edition, 2012-09-15.

(2) [Reserved]

Note 1 to paragraph (d): The standard(s) listed in paragraph (d)(1) of this section are also available from {1} International Electrotechnical Commission (IEC) Central Office, 3, rue de Varembe, CH-1211 Geneva 20, Switzerland; email: inmail@iec.ch; website: www.iec.ch; and {2} American National Standards Institute (ANSI) through its NSSN operation (www.nssn.org), Customer Service, American National Standards Institute, 25 West 43rd Street, New York, NY 10036; telephone: (212) 642-4900.

11. Amend § 68.162 by revising paragraphs (d)(1) and (i) to read as follows:

§ 68.162 Requirements for Telecommunication Certification Bodies.

* * * * *

(d) * * *

(1) In accordance with the provisions of ISO/IEC 17065 the evaluation of a product, or a portion thereof, may be performed by bodies that meet the applicable requirements of ISO/IEC 17025 and ISO/IEC 17065, in accordance with the applicable provisions of ISO/IEC 17065, for external resources (outsourcing) and other relevant standards. Evaluation is the selection of applicable requirements and the determination that those requirements are met. Evaluation may be performed by using internal TCB resources or external (outsourced) resources.

* * * * *

(i) Incorporation by reference. The material listed in this paragraph (i) is incorporated by reference into this section with the approval of the Director of the Federal Register in accordance with 5 U.S.C. 552(a) and 1 CFR part 51. To enforce any edition other than that specified in this section, the Federal Communications Commission (FCC) must publish a document in the Federal Register and the material must be available to the public. All approved material is available for inspection at the FCC and at the National Archives and Records Administration (NARA). Contact FCC at the address indicated in 47 CFR 0.401(a), Tel: (202) 418-0270. For information on the availability of this material at NARA, email: fr.inspection@nara.gov, or go to: www.archives.gov/federal-register/cfr/ibr-locations.html. The material may be obtained from the following source(s) in this paragraph (i):

(1) International Organization for Standardization (ISO), 1, ch. De la Voie-Creuse, CP 56, CH-1211, Geneva 20, Switzerland; www.iso.org; Tel.: + 41 22 749 01 11; Fax: + 41 22 733 34 30; email: central@iso.org.

(i) ISO/IEC 17025:2017, “General requirements for the competence of testing and calibration laboratories,” Third Edition, November 2017.

(ii) ISO/IEC 17065:2012(E), “Conformity assessment—Requirements for bodies certifying products, processes and services,” First Edition, 2012-09-15.

(2) [Reserved]

Note 1 to paragraph (i): The standard(s) listed in paragraph (i)(1) of this section are also available from {1} International Electrotechnical Commission (IEC) Central Office, 3, rue de Varembe, CH-1211 Geneva 20, Switzerland; email: inmail@iec.ch; website: www.iec.ch; and {2} American National Standards Institute (ANSI) through its NSSN operation (www.nssn.org), Customer Service, American National Standards Institute, 25 West 43rd Street, New York, NY 10036; telephone: (212) 642-4900.

PART 73—RADIO BROADCAST SERVICES

12. The authority citation for part 73 continues to read as follows:

Authority: 47 U.S.C. 154, 155, 301, 303, 307, 309, 310, 334, 336, 339.

13. Amend § 73.1660 by revising Note 1 to paragraph (a)(1) to read as follows:

§ 73.1660 Acceptability of broadcast transmitters.

* * * * *

Note 1 to paragraph (a)(1): The verification procedure has been replaced by Supplier's Declaration of Conformity. AM, FM, and TV transmitters previously authorized under subpart J of part 2 of this chapter may remain in use. See § 2.950 of this chapter.

* * * * *

[FR Doc. 2022-05190 Filed 3-16-22; 8:45 am]

BILLING CODE 6712-01-P